DEPARTMENT OF AGRICULTURE

Agricultural Marketing Service

[Docket Number FV-06-314]

United States Standards for Grades of Parsley

AGENCY: Agricultural Marketing Service, USDA.

ACTION: Notice.

SUMMARY: The Agricultural Marketing Service (AMS), prior to undertaking research and other work associated with revising official grade standards, is soliciting comments on the possible revisions to the United States Standards for Grades of Parsley. At a meeting with the Fruit and Vegetable Industry Advisory Committee, AMS was asked to review the fresh fruit and vegetable grade standards for usefulness in serving the industry. As a result, AMS has identified the United States Standards for Grades of Parsley for possible revision.

AMS is considering proposed revisions that would allow that percentages be determined by count and not weight and eliminate the unclassified category. AMS is seeking comments regarding these changes as well as any other revisions to the parsley standards that may be necessary to better serve the industry.

DATES: Comments must be received by September 22, 2006.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, e-mail FPB.DocketClerk@usda.gov. Comments should make reference to the dates and page number of this issue of the Federal Register and will be made available for public inspection in the above office during regular business hours. The United States Standards for Grades of Parsley are available either through the address cited above or by accessing the AMS, Fresh Products Branch Web site at: http://www.ams.usda.gov/standards/stanfrfv.htm.

FOR FURTHER INFORMATION CONTACT: Cheri L. Emery, at the above address or call (202) 720-2185; e-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA/AMS/Fruit and Vegetable Programs.

AMS is considering revisions to the voluntary United States Standards for Grades of Parsley using procedures that appear in Part 36, Title 7 of the Code of Federal Regulations (7 CFR part 36). These standards were last revised on July 30, 1930.

Background

At a meeting with the Fruit and Vegetable Industry Advisory Committee, AMS was asked to review the fresh fruit and vegetable grade standards for usefulness in serving the industry. AMS has identified the United States Standards for Grades of Parsley for possible revision. Prior to undertaking detailed work to develop proposed revisions to the standards, AMS is soliciting comments on the proposed revisions and any other comments on the United States Standards for Grades of Parsley to better serve the industry.

Currently, parsley is packed and marketed by count and weight. Taking into account these marketing practices, AMS is considering changing the current standards to determine the percentages for tolerances, defects, and the like to be determined by count and not weight. AMS would also eliminate the “Unclassified” category. This section is being removed in all standards when they are revised. This category is not a grade and only serves to show that no grade has been applied to the lot. It is no longer considered necessary. Additionally, AMS is seeking comments regarding any other revisions that may be necessary to better serve the industry.

This notice provides for a 60-day comment period for interested parties to comment on the proposed changes to the United States Standards for Grades of Parsley. Should AMS conclude that revisions are needed it will develop a proposed revised standard that will be published in the Federal Register with a request for comments in accordance with 7 CFR part 36.

Authority: 7 U.S.C. 1621-1627.

Dated: July 18, 2006.
Lloyd C. Day,
Administrator, Agricultural Marketing Service.

[FR Doc. E6-11735 Filed 7-21-06; 8:45 am]

BILLING CODE 3410-02-P